DEPARTMENT OF ENERGY

Federal Energy Regulatory Commission

[Project No. 15390-000]

HGE Energy Storage 8, LLC; Notice of Preliminary Permit Application Accepted for Filing and Soliciting Comments, Motions To Intervene, and Competing Applications

On January 3, 2025, Gravity Storage, LLC filed an application for a preliminary permit, pursuant to section 4(f) of the Federal Power Act (FPA), proposing to study the feasibility of Barrett Lake Pumped Storage Project to be located in San Diego County, California. The sole purpose of a preliminary permit, if issued, is to grant the permit holder priority to file a license application during the permit term. A preliminary permit does not authorize the permit holder to perform any land-disturbing activities or otherwise enter upon lands or waters owned by others without the owners' express permission.

The proposed project would consist of the following facilities: (1) a new 4,700-foot-long, 30-foot-high earthen with rubber sheet and asphalt lined Upper Embankment creating the Upper Reservoir with a surface area of 30 acres, and a total storage capacity of 1,500 acre-feet at a normal maximum operating elevation of 3,00 feet average mean sea level (msl); (2) the existing Barrett Lake to be used as the Lower Reservoir at elevation of 903 feet average msl; (3) six new 6,500-foot-long, 10-foot-diameter steel lined penstock shafts; (4) a new 100-foot-long 30-foot-diameter vertical access tunnel to the powerhouse; (5) a new 350-foot-long, 75-foot-wide, 100-foot-high reinforced concrete underground powerhouse housing six 220-megawatt reversible variable-speed pump-turbines totaling 1,320 MW of generating capacity; (6) a new 350-foot long, 300-foot wide concrete lined tailrace; (7) a new 4-mile long 69-kilovolt (kV) transmission line that would interconnect to the power grid via a new planned AC-DC converter station, and (8) appurtenant facilities. The estimated annual power generation at the Barrett Lake Pumped Storage would be 3,900 gigawatt-hours.

Applicant Contact: Mr. Wayne Krouse, Manager, HGE Energy Storage 8, LLC, 2901 4th Avenue South #B253, Birmingham, AL 35233 wayne@hgenergy.com.

FERC Contact: Ousmane Sidibe; email: Ousmane.sidibe@ferc.gov; phone: (202) 502-6245.

Deadline for filing comments, motions to intervene, competing applications (without notices of intent), or notices of intent to file competing applications: 60 days from the issuance of this notice. Competing applications and notices of intent must meet the requirements of 18 CFR 4.36.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

The Commission strongly encourages electronic filing. Please file comments, motions to intervene, notices of intent, and competing applications using the Commission's eFiling system at https://ferconline.ferc.gov/FERCOnline.aspx. Commenters can submit brief comments up to 6,000 characters, without prior registration, using the eComment system at https://ferconline.ferc.gov/QuickComment.aspx.

For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-15390-000.

More information about this project, including a copy of the application, can be viewed or printed on the “eLibrary” link of Commission's website at https://www.ferc.gov/ferc-online/elibrary/overview.

Enter the docket number (P-15390) in the docket number field to access the document. For assistance, contact FERC Online Support.

Dated: May 5, 2025.
Debbie-Anne A. Reese,
Secretary.

[FR Doc. 2025-08179 Filed 5-8-25; 8:45 am]

BILLING CODE 6717-01-P